DEPARTMENT OF VETERANS AFFAIRS

[OMB Control No. 2900-New]

Proposed Information Collection; Women Veterans Healthcare Barriers Survey Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed new collection, and allow 60 days for public comment in response to the notice to conduct an independent comprehensive study of the barriers to the provision of comprehensive health care for women Veterans.

DATES: Written comments and recommendations on the proposed collection of information should be received on or before March 25, 2013.

ADDRESSES: Submit written comments on the collection of information through the Federal Docket Management System (FDMS) at www.Regulations.gov; or to Cynthia Harvey-Pryor, Veterans Health Administration (10P7BFP), Department of Veterans Affairs, 810 Vermont Avenue NW, Washington, DC 20420 or email: cynthia.harvey-pryor@va.gov. Please refer to “OMB Control No. 2900-NEW, Women Veterans Healthcare Barriers Survey” in any correspondence. During the comment period, comments may be viewed online through FDMS.

FOR FURTHER INFORMATION CONTACT: Cynthia Harvey-Pryor at (202) 461-5870 or FAX (202) 273-9381.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Women Veterans Healthcare Barriers Survey .

OMB Control Number: 2900-New (Women Veterans Healthcare Barriers Survey).

Type of Review: New data collection.

Abstract: Women Veterans comprise one of the fastest growing subpopulations of Veterans. Today, there are more than 1.8 million living women Veterans, more than 500,000 of whom have enrolled in the VA Health Care System. Over the last decade, the number of women Veterans using VA health care has nearly doubled. VA is responding by improving access and services for women. The study will help us better understand barriers women Veterans face accessing VA care, the comprehensiveness of care, and improve our understanding of the long-term consequences of military deployment. The data collected will allow VA to plan and provide better health care for women Veterans and to support reports to Congress about the status of women Veterans' health care.

Affected Public: Individuals or households.

Estimated Annual Burden: 5,600 hours.

Estimated Average Burden Per Respondent: 40 minutes.

Frequency of Response: One time.

Estimated Number of Respondents: 8,400.

By direction of the Secretary.
William F. Russo,
Deputy Director, Office of Regulations Policy and Management, Office of General Counsel, Department of Veterans Affairs .

[FR Doc. 2013-01232 Filed 1-22-13; 8:45 am]

BILLING CODE 8320-01-P